DEPARTMENT OF COMMERCE

Submission for OMB Review; Comment Request

The Department of Commerce (DOC) will submit to the Office of Management and Budget (OMB) for clearance the following proposal for collection of information under the provisions of the Paperwork Reduction Act (44 U.S.C. chapter 35).

Agency: U.S. Census Bureau.

Title: 2007 Survey of Business Owners and Self-Employed Persons (SBO).

Form Number(s): SBO-1.

OMB Control Number: None.

Type of Request: New collection.

Burden Hours: 240,000.

Number of Respondents: 2,400,000.

Average Hours Per Response: 12 minutes.

Needs and Uses: The 2007 Survey of Business Owners and Self-Employed Persons (SBO) will provide the only comprehensive, regularly collected source of information on selected economic and demographic characteristics for businesses and business owners by gender, Hispanic or Latino origin, and race. It is conducted as part of the economic census program, which is required by law to be taken every five years.

The SBO collects data on the gender, Hispanic or Latino origin, and race for up to four persons owning the majority of rights, equity, or interest in the business. These data are needed to evaluate the extent and growth of business ownership by minorities and women in order to provide a framework for assessing and directing federal, state, and local government programs designed to promote the activities of disadvantaged groups.

Government program officials, industry organization leaders, economic and social analysts, and business entrepreneurs routinely use the SBO statistics. Examples of data use include those by:

• The Small Business Administration (SBA) and the Minority Business Development Agency (DOC/MBDA) to assess business assistance needs and allocate available program resources.

• Local government commissions on small and disadvantaged businesses to establish and evaluate contract procurement practices.

• Federal, state and local government agencies as a framework for planning, directing and assessing programs that promote the activities of disadvantaged groups.

• A national women-owned business trade association to assess women-owned businesses by industry and area, and educate other industry associations, corporations and government entities.

• Consultants and researchers to analyze long-term economic and demographic shifts, and differences in ownership and performance among geographic areas.

• Individual business owners to analyze their operations in comparison to similar firms, compute their market share, and assess their growth and future prospects.

The businesses which reported any business activity on any one of the following Internal Revenue Service (IRS) tax forms will be eligible for survey selection: 1040 (Schedule C), “Profit or Loss from Business” (Sole Proprietorship); 1065, “U.S. Return of Partnership Income”; 941, “Employer's Quarterly Federal Tax Return”; 944 “Employer's Annual Federal Tax Return;” or any one of the 1,120 corporate tax forms.

Affected Public: Business or other for-profit organizations; Not-for-profit institutions.

Frequency: Every 5 years.

Respondent's Obligation: Mandatory.

Legal Authority: Title 13 of the United States Code (U.S.C.), Sections 131, 193, and 224.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer, fax (202-395-7245) or e-mail (bharrisk@omb.eop.gov).

Dated: October 11, 2007.
Gwellnar Banks,
Management Analyst, Office of the Chief Information Officer.

[FR Doc. E7-20435 Filed 10-16-07; 8:45 am]

BILLING CODE 3510-07-P